SMALL BUSINESS ADMINISTRATION

[Disaster Declaration #16692 and #16693; Delaware Disaster Number DE-00026]

Presidential Declaration Amendment of a Major Disaster for Public Assistance Only for the State of Delaware

AGENCY: U.S. Small Business Administration.

ACTION: Amendment 1.

SUMMARY: This is an amendment of the Presidential declaration of a major disaster for Public Assistance Only for the State of Delaware (FEMA-4566-DR), dated 10/02/2020.

Incident: Tropical Storm Isaias.

Incident Period: 08/04/2020 through 08/07/2020.

DATES: Issued on 12/02/2020.

Physical Loan Application Deadline Date: 12/01/2020.

Economic Injury (EIDL) Loan Application Deadline Date: 07/02/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Delaware, dated 10/02/2020, is hereby amended to include the following areas as adversely affected by the disaster.

Primary Counties: New Castle

All other information in the original declaration remains unchanged.

(Catalog of Federal Domestic Assistance Number 59008)

Cynthia Pitts,
Acting Associate Administrator for Disaster Assistance.

[FR Doc. 2020-27751 Filed 12-16-20; 8:45 am]

BILLING CODE 8026-03-P